DEPARTMENT OF ENERGY

Federal Energy Regulatory Commission

[Docket Nos. ER06-615-000; ER07-1257-000; ER08-1113-000; ER08-1178-000; ER09-241-000]

California Independent System Operator Corporation; Notice of FERC Staff Attendance

June 16, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

June 17, 2009 | Settlements and Market Clearing User Group.
| Congestion Revenue Rights.
| Meeting of Market Surveillance Committee.
June 18, 2009 | Market Issues.
June 19, 2009 | Market Initiatives Roadmap.
June 23, 2009 | Systems Interface User Group.
| BPM Change Management.
June 24, 2009 | Congestion Revenue Rights.
| Settlements and Market Clearing User Group.
| Release Planning Workshop.
June 25, 2009 | Market Issues.
June 26, 2009 | Participating Intermittent Resource Program.
June 30, 2009 | Systems Interface User Group.
| Comparable Treatment of Generation and non Generation for Ancillary Services.

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-14654 Filed 6-22-09; 8:45 am]

BILLING CODE 6717-01-P